Title 3—

The President

Proclamation 8669 of May 5, 2011

Military Spouse Appreciation Day, 2011

By the President of the United States of America

A Proclamation

Military spouses serve as steady and supportive partners to the heroes in uniform who protect and defend our great Nation every day. Across America and around the world, military spouses serve our country in their own special way, helping families and friends through the stress of a deployment, caring for our wounded warriors, and supporting each other when a loved one has made the ultimate sacrifice.

Our service members and their families seldom ask for support or recognition. They carry out their duties to family and country with the quiet courage and strength that has always exemplified the American spirit. On Military Spouse Appreciation Day, we have an opportunity to not only honor the husbands and wives of our service members, but also thank them by actively expressing our gratitude in both word and deed.

When a member of our Armed Forces is deployed, an entire family is called to serve. The readiness of our troops depends on the readiness of our military families, as millions of parents, children, and loved ones sacrifice as well. This means supporting our military spouses is also a national security imperative. Earlier this year, my Administration released the report on military families, Strengthening our Military Families: Meeting America’s Commitment, which marshaled resources from across our Government to identify new opportunities to support these patriots.

First Lady Michelle Obama and Dr. Jill Biden are working tirelessly to enlist all sectors of American life to address the unique challenges of military families. Their national initiative, “Joining Forces,” mobilizes Americans to give our service members and their families the opportunities and support they have earned. Americans can find service projects, send messages of thanks to military families, and learn more about this initiative by visiting: www.JoiningForces.gov.

On Military Spouse Appreciation Day, let us join together to show our service members we are taking care of their families back home as they serve our Nation across the globe. As neighbors, teachers, parents, and fellow citizens, we can reach out to military husbands and wives in our communities. We can show our appreciation in countless ways, from offering to help with household maintenance and childcare to encouraging the community involvement and career development of military spouses.

It is through our actions that we show our commitment to our service members and their spouses. By embracing military families, we demonstrate our partnership in the defense of our freedom and the security of the United States.

NOW, THEREFORE, I, BARACK OBAMA, President of the United States of America, by virtue of the authority vested in me by the Constitution and the laws of the United States, do hereby proclaim May 6, 2011, as Military Spouse Appreciation Day. I call upon the people of the United States to honor military spouses with appropriate ceremonies and activities.

IN WITNESS WHEREOF, I have hereunto set my hand this fifth day of May, in the year of our Lord two thousand eleven, and of the Independence of the United States of America the two hundred and thirty-fifth.

[FR Doc. 2011-11629

Filed 5-10-11; 8:45 am]

Billing code 3195-W1-P